DEPARTMENT OF THE INTERIOR

National Park Service

[NPS-WASO-NAGPRA-NPS0036899; PPWOCRADN0-PCU00RP14.R50000]

Notice of Intent To Repatriate Cultural Items: Saint Louis Science Center, St. Louis, MO

AGENCY: National Park Service, Interior.

ACTION: Notice.

SUMMARY: In accordance with the Native American Graves Protection and Repatriation Act (NAGPRA), the Saint Louis Science Center (SLSC) intends to repatriate certain cultural items that meet the definition of unassociated funerary objects and certain cultural items that meet the definition of objects of cultural patrimony and that have a cultural affiliation with the Indian Tribes or Native Hawaiian organizations in this notice. The cultural items were removed from Jefferson and New Madrid Counties, MO.

DATES: Repatriation of the cultural items in this notice may occur on or after December 13, 2023.

ADDRESSES: Kristina Hampton, Manager of Collections and Special Projects, Saint Louis Science Center, 5050 Oakland Avenue, St. Louis, MO 63110, telephone (314) 286-4672, email Kristina.hampton@slsc.org.

SUPPLEMENTARY INFORMATION: This notice is published as part of the National Park Service's administrative responsibilities under NAGPRA. The determinations in this notice are the sole responsibility of the SLSC. The National Park Service is not responsible for the determinations in this notice. Additional information on the determinations in this notice, including the results of consultation, can be found in the summary or related records held by the SLSC.

Description

Twenty-nine cultural items were removed from Jefferson County, MO, and 12 cultural items were removed from New Madrid County, MO, by archeologist Robert McCormick Adams between 1939 and 1942 during archeological investigations in the state. In 1939 and 1940, Adams conducted the investigations in Jefferson County, MO, on behalf of the Academy of Science of St. Louis and sponsored by the Works Projects Administration (WPA), with support from Washington University of St. Louis, the Missouri Resources Museum in Jefferson City, MO, the Illinois State Museum, and the Smithsonian Institution in Washington, DC. The bulk of the items removed during these excavations were taken to the Academy of Science of St. Louis while a representative ratio of duplicate materials excavated were sent to the Illinois State Museum and to the Smithsonian Institution. In 1941 and 1942, Adams directed investigations in in New Madrid County, MO, for the WPA, sponsored by the Academy of Science of St. Louis and the Missouri Resources Museum. The items removed during these excavations were taken to the Academy of Science of St. Louis.

In 1959, the Academy of Science of St. Louis created the Museum of Science and Natural History in St. Louis, MO. In 1972, the Museum of Science and Natural History separated from the Academy of Science of St. Louis and control of this collection was transferred to the Museum of Science and Natural History. In 1985, when the Museum of Science and Natural History joined with St. Louis City's Planetarium, the newly formed institution was named the Saint Louis Science Center. This collection remains with the SLSC and is used to support the SLSC's mission, exhibits, and programs.

The 36 unassociated funerary objects are 13 ceramic jars, nine ceramic bowls, one ceramic bottle, one ceramic pot, four projectile points, four soil samples, two adzes, one axe, and one shell bead necklace. The five objects of cultural patrimony are one ceramic pipe, one bone effigy hair pin, two ceramic ear plugs, and one ceramic human effigy.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: oral tradition, linguistics, archeological data, and historical information.

Determinations

Pursuant to NAGPRA and its implementing regulations, and after consultation with the appropriate Indian Tribes and Native Hawaiian organizations, the SLSC has determined that:

• The 36 cultural items described above are reasonably believed to have been placed with or near individual human remains at the time of death or later as part of the death rite or ceremony and are believed, by a preponderance of the evidence, to have been removed from a specific burial site of a Native American individual.

• The 5 cultural items described above have ongoing historical, traditional, or cultural importance central to the Native American group or culture itself, rather than property owned by an individual.

• There is a relationship of shared group identity that can be reasonably traced between the cultural items and The Osage Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 13, 2023. If competing requests for repatriation are received, the SLSC must determine the most appropriate requestor prior to repatriation. Requests for joint repatriation of the cultural items are considered a single request and not competing requests. The SLSC is responsible for sending a copy of this notice to the Indian Tribe identified in this notice.

Authority: Native American Graves Protection and Repatriation Act, 25 U.S.C. 3003, and the implementing regulations, 43 CFR 10.8, 10.10, and 10.14.

Dated: November 1, 2023.
Melanie O'Brien,
Manager, National NAGPRA Program.

[FR Doc. 2023-24887 Filed 11-9-23; 8:45 am]

BILLING CODE 4312-52-P